FEDERAL RESERVE SYSTEM

Change in Bank Control Notices; Acquisition of Shares of Bank or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 17, 2007.

A. Federal Reserve Bank of New York (Anne MacEwen, Bank Applications Officer) 33 Liberty Street, New York, New York 10045-0001:

1. Lawrence B. Seidman, Seidman and Associates, LLC, Seidman Investment Partnership, LP, Seidman Investment Partnership II, LP, Parsippany, New Jersey; Broad Park Investors, LLC, Chewy Gooey Cookies, both of West Orange, New Jersey, LP, Berggruen Holdings North America Ltd., New York, New York; Dennis Pollack, Woodcliff Lake, New Jersey; Harold Schechter; Raymond Vanaria, both of Wayne, New Jersey, and LSBK 06-08, LLC, Watchung, New Jersey; to acquire voting shares of Center Bancorp, Inc., Union, New Jersey, and thereby acquire voting shares of Center National Bank, Union, New Jersey.

Board of Governors of the Federal Reserve System, November 28, 2007.
Robert deV. Frierson,
Deputy Secretary of the Board.

[FR Doc. E7-23340 Filed 11-20-07; 8:45 am]

BILLING CODE 6210-01-S